DEPARTMENT OF TRANSPORTATION

Federal Transit Administration

Alternatives Analysis Program Discretionary Funding Allocations

AGENCY: Federal Transit Administration (FTA), DOT.

ACTION: Alternatives Analysis Program Announcement of Project Selections.

SUMMARY: The U.S. Department of Transportation's (DOT) Federal Transit Administration (FTA) announces the selection of projects funded with unallocated Section 5339 Alternatives Analysis Program funds in support of DOT's Livability Initiative, which was announced in the Alternatives Analysis Program Notice of Funding Availability (NOFA) on May 28, 2010. The Alternatives Analysis Program assists potential sponsors of major transit capital investments (“New Starts” and “Small Starts” projects) in the evaluation of all reasonable modal and multimodal alternatives and general alignment options to address transportation needs in a defined travel corridor. Through these funding awards, FTA will support a limited number of alternatives analyses, or technical work conducted as part of proposed or on-going alternatives analyses, that seek to advance major transit investments that foster the six livability principles of the DOT-HUD-EPA Partnership for Sustainable Communities.

FOR FURTHER INFORMATION CONTACT: Successful applicants should contact the appropriate FTA Regional office (Appendix A) for specific information regarding applying for the funds. For general information on the Alternatives Analysis Program, contact Kenneth Cervenka, Office of Planning and Environment, at (202) 493-0512 or Kenneth.Cervenka@dot.gov.

SUPPLEMENTARY INFORMATION: A total of $25,700,000 was available for FTA's Alternatives Analysis Program. A total of $73,027,950 was requested for 67 projects, indicating significant demand for funds. Project proposals were evaluated based on the criteria detailed in the May 28, 2010 NOFA. The alternatives analysis proposals selected and shown in Table I will advance proposed transit investments that would provide more transportation choices, improve economic competitiveness, support existing communities, create partnerships and enhance the value of communities and neighborhoods.

Grantees selected for competitive discretionary funding should work with their FTA regional office to finalize the application in FTA's Transportation Electronic Award Management system (TEAM) so that funds can be obligated expeditiously. Funds must be used for the purposes specified in the competitive application. A discretionary project identification number has been assigned to each project for tracking purposes and must be used in the TEAM application. Pre-award authority is granted as of December 21, 2010.

Post-award reporting requirements include submission of the Financial Federal Report and Milestone reports in TEAM as appropriate (see FTA.C.5010.1D).

The grantee must comply with all applicable Federal statutes, regulations, executive orders, FTA circulars, and other Federal administrative requirements in carrying out the activities supported by the FTA grant. The grantee must initiate the alternatives analysis within 12 months of grant approval unless activities are already underway. Funds allocated in this announcement must be obligated in a grant by September 30, 2013.

Issued in Washington, DC, this 23rd day of February, 2011.
Peter Rogoff,
Administrator.

Appendix A

FTA Regional and Metropolitan Offices

Mary E. Mello, Regional Administrator, Region 1—Boston, Kendall Square, 55 Broadway, Suite 920, Cambridge, MA 02142-1093, Tel. 617-494-2055 | Robert C. Patrick, Regional Administrator, Region 6—Ft. Worth, 819 Taylor Street, Room 8A36, Ft. Worth, TX 76102, Tel. 817-978-0550.
States served: Connecticut, Maine, Massachusetts, New Hampshire, Rhode Island, and Vermont | States served: Arkansas, Louisiana, Oklahoma, New Mexico and Texas.
Brigid Hynes-Cherin, Regional Administrator, Region 2—New York, One Bowling Green, Room 429, New York, NY 10004-1415, Tel. 212-668-2170 | Mokhtee Ahmad, Regional Administrator, Region 7—Kansas City, MO, 901 Locust Street, Room 404, Kansas City, MO 64106, Tel. 816-329-3920.
States served: New Jersey, New York | States served: Iowa, Kansas, Missouri, and Nebraska.
New York Metropolitan Office, Region 2—New York, One Bowling Green, Room 428, New York, NY 10004-1415, Tel. 212-668-2202 |
Letitia Thompson, Regional Administrator, Region 3—Philadelphia, 1760 Market Street, Suite 500, Philadelphia, PA 19103-4124, Tel. 215-656-7100 | Terry Rosapep, Regional Administrator, Region 8—Denver, 12300 West Dakota Ave., Suite 310, Lakewood, CO 80228-2583, Tel. 720-963-3300.
States served: Delaware, Maryland, Pennsylvania, Virginia, West Virginia,, and District of Columbia | States served: Colorado, Montana, North Dakota, South Dakota, Utah, and Wyoming.
Philadelphia Metropolitan Office, Region 3—Philadelphia, 1760 Market Street, Suite 500, Philadelphia, PA 19103-4124, Tel. 215-656-7070
Washington, D.C. Metropolitan Office, 1990 K Street, NW., Room 510, Washington, DC 20006, Tel. 202-219-3562 |
Yvette Taylor, Regional Administrator, Region 4—Atlanta, 230 Peachtreet Street, NW., Suite 800, Atlanta, GA 30303, Tel. 404-865-5600 | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands | States served: American Samoa, Arizona, California, Guam, Hawaii, Nevada, and the Northern Mariana Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789 | Rick Krochalis, Regional Administrator, Region 10—Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5—Chicago, 200 West Adams Street, Suite 320, Chicago, IL 60606, Tel. 312-353-2789

Table I—Alternatives Analysis Project Selections
State | Project ID | Recipient | Project description | Allocation
CA | D2010-ALTA-06001 ($1,336,500) and D2010-ALTA-07001 ($663,500) | Los Angeles County Metropolitan Transportation Authority | Van Nuys Corridor and Other Regional Transit Projects | $2,000,000
CO | D2010-ALTA-07002 | City and County of Denver | East Colfax Avenue | 2,000,000
DC | D2010-ALTA-07003 | District Department of Transportation | DC Streetcar Alignment and Vehicle Propulsion Technology | 1,000,000
FL | D2010-ALTA-07004 | Central Florida Regional Transportation Authority—LYNX | Osceola County Corridor | 800,000
FL | D2010-ALTA-07005 | City of Tallahassee—StarMetro | Future Transit System Development | 400,000
FL | D2010-ALTA-07006 | Gainesville Regional Transit System | Bus Rapid Transit | 425,000
GA | D2010-ALTA-09001 | Cobb County Department of Transportation | Northwest Atlanta Corridor | 1,360,000
GA | D2010-ALTA-09002 | Gwinnett County | I-85 Corridor | 600,000
IL | D2010-ALTA-09003 | Chicago Transit Authority | Western Corridor | 1,600,000
MN | D2010-ALTA-09004 | City of Minneapolis | Nicollet-Central Urban Circulator | 900,000
MN | D2010-ALTA-09005 | Dakota County Regional Railroad Authority | Robert Street Transitway | 1,180,000
MO | D2010-ALTA-09006 | Mid-America Regional Council | Jackson County/Kansas City Regional | 1,800,000
NE | D2010-ALTA-09007 | Transit Authority of the City of Omaha | Omaha Downtown/Midtown | 700,000
NY | D2010-ALTA-09008 | New York City Department of Transportation | La Guardia Airport Transit Corridor | 1,250,000
OH | D2010-ALTA-09009 | Central Ohio Transit Authority | Northeast Corridor | 300,000
OR | D2010-ALTA-001 | Portland Area MetropolitanService District (Metro) | Southwest Corridor | 2,000,000
RI | D2010-ALTA-002 | Rhode Island Public Transit Authority | Extension of Providence Core Community Connector AA | 160,000
TN | D2010-ALTA-003 | Nashville Metropolitan Transit Authority | Broadway/West End Corridor | 1,180,000
TX | D2010-ALTA-004 | Capital Metropolitan Transportation Authority | North Central Corridor | 1,975,000
TX | D2010-ALTA-005 | Dallas Area Rapid Transit | D2 AA/EIS | 700,000
TX | D2010-ALTA-006 | VIA Metropolitan Transit | VIA Metropolitan Transit—Urban Circulator Program | 900,000
UT | D2010-ALTA-007 | Salt Lake City Corporation | Downtown Salt Lake City Streetcar | 470,000
WA | D2010-ALTA-07007 ($200,500); D2010-ALTA-09010 ($121,875); D2010-ALTA-008 ($1,648,288) and D2010-ALTA-08001 ($29,337) | Sound Transit | Sound Transit North Corridor | 2,000,000
Total | $25,700,000

[FR Doc. 2011-4454 Filed 2-28-11; 8:45 am]

BILLING CODE P